ENVIRONMENTAL PROTECTION AGENCY

40 CFR Part 52

[EPA-R09-OAR-2025-2961; FRL-13073-01-R9]

Air Plan Revisions; Arizona; Arizona Department of Environmental Quality; Gila County Reasonably Available Control Technology

AGENCY: Environmental Protection Agency (EPA).

ACTION: Proposed rule.

SUMMARY: The Environmental Protection Agency (EPA) is proposing to approve, under the Clean Air Act (CAA or “Act”), revisions to the Arizona state implementation plan (SIP) addressing reasonably available control technology (RACT) requirements for the 2015 ozone national ambient air quality standards (NAAQS or “standard”) within the Gila County portion of the Phoenix-Mesa ozone nonattainment area. This proposal explains our evaluation of Arizona's SIP submittal and basis for proposing approval.

DATES: Comments must be received on or before March 16, 2026.

ADDRESSES: Submit your comments, identified by Docket ID No. EPA-R09-OAR-2025-2961 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Elijah Gordon, EPA Region IX, 75 Hawthorne St., San Francisco, CA 94105; telephone number: (415) 972-3158; email address: gordon.elijah@epa.gov.

SUPPLEMENTARY INFORMATION: Throughout this document, “we,” “us,” and “our” refer to the EPA.

Table of Contents

I. Background

II. The State's Submittal

III. The EPA's Evaluation

A. How is the EPA evaluating the document?

B. Does the document meet the evaluation criteria?

IV. Proposed Action and Request for Public Comment

V. Statutory and Executive Order Reviews

I. Background

Pursuant to title I of the CAA, the EPA establishes ambient air quality standards for six “criteria” air pollutants known to be harmful to human health and the environment. States are required to submit plans, referred to as SIPs, that provide for implementation, maintenance, and enforcement of each standard. As appropriate, this includes measures to reduce emissions of criteria air pollutants and/or “precursor” air pollutants that lead to the formation of the criteria air pollutants. Areas causing or contributing to a violation of a NAAQS are designated under the CAA as “nonattainment” and must adopt and submit additional SIP elements. Ozone nonattainment areas are further classified as “Marginal,” “Moderate,” “Serious,” “Severe,” or “Extreme.”

In ozone nonattainment areas, one of the additional SIP elements is the submission of a RACT SIP. CAA sections 182(b)(2) and 182(f) require RACT to be implemented in ozone nonattainment areas classified as Moderate or higher for any source category covered by a Control Techniques Guidelines (CTG) document issued by the EPA and for any major stationary source of volatile organic compounds (VOC) and oxides of nitrogen (NOX).¹ The EPA defines RACT as the “. . . lowest emission limitation that a particular source is capable of meeting by the application of control technology that is reasonably available considering technological and economic feasibility.” ²

¹ Emissions of VOC and NOX are precursors to the formation of ozone in the ambient air.

² 44 FR 53761, 53762 (September 17, 1979).

In this proposal, we are evaluating a RACT SIP submitted by Arizona. In 2015, the EPA revised the ozone NAAQS establishing an 8-hour standard of 0.070 parts per million (“2015 ozone NAAQS” or “2015 standard”).³ In 2018, the EPA initially designated the Phoenix-Mesa area in Arizona as nonattainment for the 2015 standard with a classification of Marginal.⁴ In 2022, the EPA reclassified the Phoenix-Mesa ozone nonattainment area to Moderate.⁵ The reclassification to Moderate triggered the CAA requirement for Arizona to implement RACT in the Phoenix-Mesa ozone nonattainment area for the 2015 standard.⁶

³ 80 FR 65292 (October 26, 2015).

⁴ 83 FR 25776 (June 4, 2018).

⁵ 40 CFR 81.303. After failing to attain the NAAQS by the attainment date, the Phoenix-Mesa ozone nonattainment area was reclassified to Moderate for the 2015 ozone NAAQS on October 7, 2022 (87 FR 60897).

⁶ 40 CFR 51.1312(a).

II. The State's Submittal

On March 26, 2025, the Arizona Department of Environmental Quality (ADEQ) submitted a SIP revision to the EPA certifying that RACT requirements for the portion of Gila County within the Phoenix-Mesa ozone nonattainment area have been met (“2025 RACT SIP” or “submittal”). The ADEQ is the governor's designee for submitting official revisions of the Arizona SIP to the EPA. Table 1 lists the document in the submittal that is addressed by this proposal with the date that it was adopted and submitted to the EPA by the ADEQ.

Table 1—Submitted Document
Agency | Document title | Adopted | Submitted
ADEQ | SIP Revision: Gila County, Arizona RACT Analysis and Negative Declarations for the 2015 Ozone NAAQS | 03/24/2025 | 03/26/2025

On May 1, 2025, the EPA determined that ADEQ's 2025 RACT SIP met the completeness criteria in 40 CFR part 51, appendix V.

The ADEQ has jurisdiction for regulating stationary sources of air pollution within Gila County, Arizona. Therefore, consistent with CAA sections 182(b)(2) and 182(f), the 2025 RACT SIP must demonstrate that the ADEQ is implementing RACT in this area for all sources covered by a CTG document and for all major stationary sources of VOC or NOX. Because the Phoenix-Mesa ozone nonattainment area is classified as Moderate, a major stationary source is any stationary facility or source of air pollutants which directly emits, or has the potential to emit, one hundred tons per year or more of any air pollutant.⁷

⁷ CAA sections 182(f) and 302(j). For ozone nonattainment areas classified as Serious, Severe, or Extreme, the CAA provides that the major stationary source threshold is 50 tons per year (tpy), 25 tpy, and 10 tpy, respectively. See CAA sections 182(c), 182(d), 182(e), and 182(f), respectively.

The ADEQ's 2025 RACT SIP certifies that there are no sources subject to RACT requirements within the Gila County portion of the Phoenix-Mesa ozone nonattainment area for the 2015 ozone NAAQS. As such, the ADEQ submitted negative declarations for all CTG documents and for major stationary sources of VOC and NOX. The ADEQ based its negative declarations on reviewing its permitting database, internal point source emissions inventory, and the EPA National Emissions Inventory (NEI). The ADEQ stated that “[t]here are currently no air permitted sources within the area.” ⁸ The EPA's technical support document (TSD) in the docket for this action has more information about the ADEQ's 2025 RACT SIP.

⁸ See 2025 RACT SIP, page 6.

III. The EPA's Evaluation

A. How is the EPA evaluating the document?

The ADEQ's 2025 RACT SIP must demonstrate that it implements RACT in the Gila County portion of the Phoenix-Mesa ozone nonattainment area. The EPA's implementation rule for the 2015 standard provides guidance for making a RACT demonstration and references prior discussions in our implementation rules for the 1997 and 2008 ozone standards.⁹ In sum, RACT SIPs must contain adopted RACT regulations, certifications (where appropriate) that existing provisions are RACT, and/or negative declarations that no sources in the nonattainment area are covered by a specific CTG.¹⁰ Furthermore, states must submit appropriate supporting information for their RACT submissions.¹¹

⁹ 83 FR 62998, 63007 (December 6, 2018).

¹⁰ 80 FR 12264, 12278 (March 6, 2015).

¹¹ Id.; 70 FR 71612, 71652 (November 29, 2005).

Additionally, relevant requirements in CAA sections 110(a) and 110(l) must also be met. CAA section 110(a) requires emissions limitations in the SIP to be “enforceable.” CAA section 110(l) requires SIP revisions to be adopted after reasonable notice and public hearing and prohibits EPA approval if the revision would interfere with any applicable requirement concerning attainment and reasonable further progress or any other applicable requirement of the Act.

Rules, guidance, and policy documents that we used for our review include the following:

1. “State Implementation Plans; General Preamble for the Implementation of Title I of the Clean Air Act Amendments of 1990,” 57 FR 13498 (April 16, 1992); 57 FR 18070 (April 28, 1992).

2. Memorandum dated May 18, 2006, from William T. Harnett, Director, Air Quality Policy Division, to Regional Air Division Directors, Subject: “RACT Qs & As—Reasonably Available Control Technology (RACT): Questions and Answers.”

3. “Final Rule to Implement the 8-hour Ozone National Ambient Air Quality Standard—Phase 2,” 70 FR 71612 (November 29, 2005).

4. “Implementation of the 2008 National Ambient Air Quality Standards for Ozone: State Implementation Plan Requirements,” 80 FR 12264 (March 6, 2015).

5. “Implementation of the 2015 National Ambient Air Quality Standards for Ozone: Nonattainment Area State Implementation Plan Requirements,” 83 FR 62998 (December 6, 2018).

B. Does the document meet the evaluation criteria?

We evaluated the ADEQ's 2025 RACT SIP to ensure it meets RACT and other CAA requirements. We reviewed the EPA's NEI, reviewed the EPA's Enforcement and Compliance History Online (ECHO) database, and performed multiple internet searches for sources potentially located within the nonattainment area to determine whether the ADEQ's determination that no sources are subject to RACT was reasonable.

We did not identify any major stationary sources of VOC or NOX or any sources subject to a CTG document within the Gila County portion of the Phoenix-Mesa ozone nonattainment area. Given that no air permits have been issued for stationary sources within this area of Gila County, this is a reasonable finding. Additionally, this conclusion is not unexpected considering the portion of Gila County in the Phoenix-Mesa ozone nonattainment area represents less than 0.5 percent of the entire acreage of the nonattainment area, and the land is entirely National Forest and National Park land.

Thus, we did not identify any sources that would be subject to RACT requirements, and we agree with the ADEQ's submitted negative declarations. We also find that the submittal meets CAA section 110(l) because it was adopted after reasonable notice and public hearing and because it would not interfere with any applicable requirement concerning attainment, reasonable further progress, or any other applicable requirement of the Act. Because only negative declarations were adopted, the submittal does not contain any emissions limitations to evaluate for enforceability under CAA section 110(a). The TSD has more information on our evaluation.

IV. Proposed Action and Request for Public Comment

As authorized in section 110(k)(3) of the Act, the EPA proposes to approve the ADEQ's 2025 RACT SIP under CAA sections 182(b)(2) and 182(f) as meeting RACT for the Gila County portion of the Phoenix-Mesa ozone nonattainment area for the 2015 ozone NAAQS and because it fulfills the relevant requirements in CAA sections 110(a) and 110(l). For each RACT element, Table 2 lists the rule or negative declaration relied upon to address RACT and our proposed action for that RACT element.

We will accept comments from the public on this proposal until March 16, 2026. If finalized as proposed, our final action will add the document in Table 1 into the Arizona SIP and the negative declarations into 40 CFR 52.122.

Table 2—Proposed Action on RACT Elements for 2015 Ozone NAAQS ¹²

¹² The ADEQ also adopted a negative declaration for “Protocol for Determining the Daily Volatile Organic Compound Emission Rate of Automobile and Light-Duty Truck Primer-Surfacer and Topcoat Operations (EPA 453/R-08-002, 2008/09).” However, this document is not a CTG document, and the EPA will not propose action on it.

CTG document No. | RACT element | Rule implementing RACT | Negative declaration submitted | EPA proposed action
EPA-450/R-75-102 | Design Criteria for Stage I Vapor Control—Gasoline Service Stations |  | Yes | Approval.
EPA-450/2-77-008 | Control of Volatile Organic Emissions from Existing Stationary Sources—Volume II: Surface Coating of Cans |  | Yes | Approval.
EPA-450/2-77-008 | Control of Volatile Organic Emissions from Existing Stationary Sources—Volume II: Surface Coating of Coils |  | Yes | Approval.
EPA-450/2-77-008 | Control of Volatile Organic Emissions from Existing Stationary Sources—Volume II: Surface Coating of Paper |  | Yes | Approval.
EPA-450/2-77-008 | Control of Volatile Organic Emissions from Existing Stationary Sources—Volume II: Surface Coating of Fabrics |  | Yes | Approval
EPA-450/2-77-008 | Control of Volatile Organic Emissions from Existing Stationary Sources—Volume II: Surface Coating of Automobiles and Light-Duty Trucks |  | Yes | Approval
EPA-450/2-77-022 | Control of Volatile Organic Emissions from Solvent Metal Cleaning |  | Yes | Approval.
EPA-450/2-77-025 | Control of Refinery Vacuum Producing Systems, Wastewater Separators, and Process Unit Turnarounds |  | Yes | Approval.
EPA-450/2-77-026 | Control of Hydrocarbons from Tank Truck Gasoline Loading Terminals |  | Yes | Approval.
EPA-450/2-77-032 | Control of Volatile Organic Emissions from Existing Stationary Sources—Volume III: Surface Coating of Metal Furniture |  | Yes | Approval.
EPA-450/2-77-033 | Control of Volatile Organic Emissions from Existing Stationary Sources—Volume IV: Surface Coating of Insulation of Magnet Wire |  | Yes | Approval.
EPA-450/2-77-034 | Control of Volatile Organic Emissions from Existing Stationary Sources—Volume V: Surface Coating of Large Appliances |  | Yes | Approval.
EPA-450/2-77-035 | Control of Volatile Organic Emissions from Bulk Gasoline Plants |  | Yes | Approval.
EPA-450/2-77-036 | Control of Volatile Organic Emissions from Storage of Petroleum Liquids in Fixed-Roof Tanks |  | Yes | Approval.
EPA-450/2-77-037 | Control of Volatile Organic Emissions from Use of Cutback Asphalt |  | Yes | Approval.
EPA-450/2-78-015 | Control of Volatile Organic Emissions from Existing Stationary Sources—Volume VI: Surface Coating of Miscellaneous Metal Parts and Products |  | Yes | Approval.
EPA-450/2-78-029 | Control of Volatile Organic Emissions from Manufacture of Synthesized Pharmaceutical Products |  | Yes | Approval.
EPA-450/2-78-030 | Control of Volatile Organic Emissions from Manufacture of Pneumatic Rubber Tires |  | Yes | Approval.
EPA-450/2-78-032 | Control of Volatile Organic Emissions from Existing Stationary Sources—Volume VII: Factory Surface Coating of Flat Wood Paneling |  | Yes | Approval.
EPA-450/2-78-033 | Control of Volatile Organic Emissions from Existing Stationary Sources—Volume VIII: Graphic Arts-Rotogravure and Flexography |  | Yes | Approval.
EPA-450/2-78-036 | Control of Volatile Organic Compound Leaks from Petroleum Refinery Equipment |  | Yes | Approval.
EPA-450/2-78-047 | Control of Volatile Organic Emissions from Petroleum Liquid Storage in External Floating Roof Tanks |  | Yes | Approval.
EPA-450/2-78-051 | Control of Volatile Organic Compound Leaks from Gasoline Tank Trucks and Vapor Collection Systems |  | Yes | Approval.
EPA-450/3-82-009 | Control of Volatile Organic Compound Emissions from Large Petroleum Dry Cleaners |  | Yes | Approval.
EPA-450/3-83-006 | Control of Volatile Organic Compound Leaks from Synthetic Organic Chemical Polymer and Resin Manufacturing Equipment |  | Yes | Approval.
EPA-450/3-83-007 | Control of Volatile Organic Compound Equipment Leaks from Natural Gas/Gasoline Processing Plants |  | Yes | Approval.
EPA-450/3-83-008 | Control of Volatile Organic Compound Emissions from Manufacture of High-Density Polyethylene, Polypropylene, and Polystyrene Resins |  | Yes | Approval.
EPA-450/3-84-015 | Control of Volatile Organic Compound Emissions from Air Oxidation Processes in Synthetic Organic Chemical Manufacturing Industry |  | Yes | Approval.
EPA-450/4-91-031 | Control of Volatile Organic Compound Emissions from Reactor Processes and Distillation Operations in Synthetic Organic Chemical Manufacturing Industry |  | Yes | Approval.
EPA-453/R-96-007 | Control of Volatile Organic Compound Emissions from Wood Furniture Manufacturing Operations |  | Yes | Approval.
EPA-453/R-94-032; 61 FR 44050; 8/27/96 | Alternative Control Technology Document—Surface Coating Operations at Shipbuilding and Ship Repair Facilities |  | Yes | Approval.
EPA-453/R-97-004; 59 FR 29216; 6/06/94 | Control of VOC Emissions from Coating Operations at Aerospace Manufacturing and Rework |  | Yes | Approval.
EPA-453/R-06-001 | Control Techniques Guidelines for Industrial Cleaning Solvents |  | Yes | Approval.
EPA-453/R-06-002 | Control Techniques Guidelines for Offset Lithographic Printing and Letterpress Printing |  | Yes | Approval.
EPA-453/R-06-003 | Control Techniques Guidelines for Flexible Package Printing |  | Yes | Approval.
EPA-453/R-06-004 | Control Techniques Guidelines for Flat Wood Paneling Coatings |  | Yes | Approval.
EPA 453/R-07-003 | Control Techniques Guidelines for Paper, Film, and Foil Coatings |  | Yes | Approval.
EPA 453/R-07-004 | Control Techniques Guidelines for Large Appliance Coatings |  | Yes | Approval.
EPA 453/R-07-005 | Control Techniques Guidelines for Metal Furniture Coatings |  | Yes | Approval.
EPA 453/R-08-003 | Control Techniques Guidelines for Miscellaneous Metal and Plastic Parts Coatings: Table 2—Metal Parts and Products |  | Yes | Approval.
EPA 453/R-08-003 | Control Techniques Guidelines for Miscellaneous Metal and Plastic Parts Coatings: Table 3—Plastic Parts and Products |  | Yes | Approval.
EPA 453/R-08-003 | Control Techniques Guidelines for Miscellaneous Metal and Plastic Parts Coatings: Table 4—Automotive/Transportation and Business Machine Plastic Parts |  | Yes | Approval.
EPA 453/R-08-003 | Control Techniques Guidelines for Miscellaneous Metal and Plastic Parts Coatings: Table 5—Pleasure Craft Surface Coating |  | Yes | Approval.
EPA 453/R-08-003 | Control Techniques Guidelines for Miscellaneous Metal and Plastic Parts Coatings: Table 6—Motor Vehicle Materials |  | Yes | Approval.
EPA 453/R-08-004 | Control Techniques Guidelines for Fiberglass Boat Manufacturing Materials |  | Yes | Approval.
EPA 453/R-08-005 | Control Techniques Guidelines for Miscellaneous Industrial Adhesives |  | Yes | Approval.
EPA 453/R-08-006 | Control Techniques Guidelines for Automobile and Light-Duty Truck Assembly Coatings |  | Yes | Approval.
EPA 453/B-16-001 | Control Techniques Guidelines for the Oil and Natural Gas Industry |  | Yes | Approval.
| Major non-CTG VOC Sources |  | Yes | Approval.
| Major non-CTG NOX Sources |  | Yes | Approval.

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen oxides, Ozone, Reporting and recordkeeping requirements, Volatile organic compounds.

Dated: February 3, 2026.
Michael Martucci,
Acting Regional Administrator, Region IX.

[FR Doc. 2026-02845 Filed 2-11-26; 8:45 am]

BILLING CODE 6560-50-P